DEPARTMENT OF ENERGY

Federal Energy Regulatory Commission

[Docket Nos. CP05-25-000; CP05-26-000; CP05-27-000; CP05-28-000]

Seafarer U.S. Pipeline System, Inc.; Notice of Filing

November 23, 2004.

Take notice that on November 16, 2004, Seafarer U.S. Pipeline System, Inc. (Seafarer), 1001 Louisiana Street, Houston, Texas 77002, filed an application, in Docket Nos. CP05-25-000, et al., pursuant to section 7 of the Natural Gas Act (NGA), as amended, and Parts 157 and 284 of the Commission's Rules and Regulations, for: (i) A certificate of public convenience and necessity authorizing Seafarer to construct, own, and operate a new natural gas pipeline under Part 157, Subpart A; (ii) a blanket certificate authorizing Seafarer to self-implement routine activities, including construction, acquisition, operation, or abandonment of certain facilities under Part 157, Subpart F; and (iii) a blanket certificate authorizing Seafarer to transport natural gas, on an open access and self-implementing basis, under Part 284, Subpart G.

Concurrently, in a separate filing, Docket No. CP05-28-000, Seafarer filed an application pursuant to section 3 of the NGA and Part 153 of the Commission's Rules and Regulations, and also request for a Presidential Permit for importing and transporting natural gas from a proposed interconnection at the US/Bahamian Exclusive Economic Zone (EEZ) boundary with a proposed Bahamian pipeline connected to the proposed High Rock LNG terminal located at South Riding Point on Grand Bahama Island.

The applications are on file with the Commission and open for public inspection. These filings are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866)208-3676, or for TTY, contact (202) 502-8659. Any questions regarding the applications are to be directed to Howard L. Nelson, El Paso Corporation, 555 11th Street, NW., Suite 750, Washington, DC, 20004.

The proposed pipeline will consist of approximately 41 miles of 26-inch diameter pipeline extending from the receipt point at the EEZ boundary to an interconnection with existing facilities of Florida Gas Transmission Company (FGT) in Palm Beach County, Florida. From the EEZ boundary, the pipeline will extend underwater approximately 35 miles and make landfall at Florida Power & Light Company's power plant site in Riviera Beach. The pipeline will continue onshore approximately six miles along existing utility, roadway and railway corridors to the FGT interconnection point. The proposed pipeline will transport up to 800,000 Dth per day from the proposed High Rock LNG terminal to gas-consuming markets in Florida and other Southeastern states.

There are two ways to become involved in the Commission's review of this project. First, any person wishing to obtain legal status by becoming a party to the proceedings for this project should, on or before the below listed comment date, file with the Federal Energy Regulatory Commission, 888 First Street, NE, Washington, D.C. 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process.

Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Motions to intervene, protests and comments may be filed electronically via the internet in lieu of paper; see, 18 CFR 385.2001(a)(1)(iii) and the instructions on the Commission's Web site under the “e-Filing” link. The Commission strongly encourages electronic filings.

Comment Date: December 14, 2004.

Magalie R. Salas,
Secretary.

[FR Doc. E4-3391 Filed 11-30-04; 8:45 am]

BILLING CODE 6717-01-P